SECURITIES AND EXCHANGE COMMISSION

Sunshine Act Meeting

Federal Register citation of previous announcement: (68 FR 23332, May 1, 2003).

Status: Closed meetings.

Place: 450 Fifth Street, NW., Washington, DC.

Date and Time of Previously Announced Meeting: Thursday, May 8, 2003.

Change in the Meeting: Additional item/additional meeting.

The following item was added to the closed meeting of Thursday, May 8, 2003: litigation matter.

An additional closed meeting was held on Friday, May 9, 2003, at 3 p.m.

The subject matter of the closed meeting scheduled for Friday, May 9, 2003, was: litigation matter.

Commissioner Goldschmid, as duty officer, determined that Commission business required the above change and that no earlier notice thereof was possible.

At times, changes in Commission priorities require alterations in the scheduling of meeting items. For further information and to ascertain what, if any, matters have been added, deleted or postponed, please contact the Office of the Secretary at (202) 942-7070.

Dated: May 12, 2003.
Margaret H. McFarland,
Deputy Secretary.

[FR Doc. 03-12221 Filed 5-12-03; 4:29 pm]

BILLING CODE 8010-01-M